DEPARTMENT OF TRANSPORTATION

National Highway Traffic Safety Administration

[Docket Number NHTSA-2025-0054]

Agency Information Collection Activities; Notice and Request for Comment; Petitions for Hearings on Notification and Remedy of Defects

AGENCY: National Highway Traffic Safety Administration (NHTSA), U.S. Department of Transportation (DOT).

ACTION: Notice and Request for comment on an extension of a currently approved collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections. This document describes a collection of information for which NHTSA intends to seek OMB approval.

DATES: Comments must be received on or before September 2, 2025.

ADDRESSES: You may submit comments identified by DOT Docket No. NHTSA-2021-0068 by any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays.

Instructions: All submissions must include the agency name and docket number for this proposed collection of information. Note that all comments received will be posted without change to https://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (https://www.federalregister.gov/citation/65-FR-19477) or you may visit https://transportation.gov/privacy.

Docket: For access to the docket to read background documents or comments received, go to https://www.regulations.gov. or the street address listed above. Follow the online instructions for accessing the dockets.

FOR FURTHER INFORMATION CONTACT: For additional information or access to background documents, contact Jeremy Gunderson, 202-366-8050, Recall Management Division (NEF-107), Jeremy.Gunderson@dot.gov, National Highway Traffic Safety Administration, U.S. Department of Transportation, 1200 New Jersey Avenue SE, Washington, DC 20590.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (5 CFR 1320.8(d)), an agency must ask for public comment on the following: (a) Whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g., permitting electronic submission of responses. In compliance with these requirements, NHTSA asks for public comments on the following proposed collection of information for which the agency is seeking approval from OMB.

Title: Petitions for Hearings on Notification and Remedy of Defects.

OMB Control Number: 2127-0039.

Form Numbers(s): N/A.

Type of Request: Extension of a currently approved information collection.

Type of Review Requested: Regular.

Requested Expiration Date of Approval: 3 years from the date of approval.

Summary of the Collection of Information: There are various sources from which a defect related to motor vehicle safety or noncompliance with an applicable Federal motor vehicle safety standard (FMVSS) may be identified, including owner complaints, testing, investigation, and research. Section 30118 of Title 49 of the United States Code requires the manufacturer of motor vehicles or replacement equipment to notify owners, purchasers, and dealers of any determination that a motor vehicle or motor vehicle equipment contains a defect related to motor vehicle safety or does not comply with an applicable FMVSS. When the manufacturer makes this determination, it must also notify NHTSA. When NHTSA makes this determination, it orders the manufacturer to provide the required notice. Section 30120 of Title 49 of the United States Code requires the manufacturer to remedy, without charge, the defect or non-compliance and specifies the ways in which a noncompliance or defect can be remedied. Sections 30118(e) and 30120(e) specify that any interested person may petition Secretary of Transportation (NHTSA by delegation) to hold a hearing to determine whether a manufacturer of motor vehicles or motor vehicle equipment has met its obligation to notify owners, purchasers, and dealers of vehicles or equipment of a safety-related defect or noncompliance with a FMVSS in the manufacturer's products and to remedy that defect or noncompliance.

To implement these statutory provisions, NHTSA promulgated https://www.ecfr.gov/current/title-49/part-557. Petitions for Hearings on Notification and Remedy of Defects. Part 577 establishes procedures for the submission and disposition of petitions for hearings on whether the manufacturer has reasonably met its obligation to notify owners, purchasers, and dealers of safety-related defects or noncompliance, or to remedy such defect or noncompliance free of charge.

Description of the Need for the Information and Proposed Use of the Information: Persons who believe that a manufacturer has not met its obligation to notify owners, purchasers, or dealers of a safety related defect or noncompliance with FMVSS, or to remedy the problem in accordance with statutory requirements, may petition the agency pursuant to 49 CFR part 557. The agency uses the information collected in the petition, and may use other information available to it, to decide whether a hearing is necessary to determine whether a manufacturer has reasonably met its obligations. Should the agency, on the basis of information provided at that hearing or other information, determine the manufacturer has not reasonably met its obligations, the agency orders the manufacturer to take specified action to bring itself into compliance with those obligations.

Affected Public: Businesses or others for profit.

Abstract:

Estimated Number of Respondents: 1 respondent.

Frequency: On occasion.

Estimated Annual Burden Hours: During NHTSA's last renewal of this information collection, the agency estimated it would receive one petition a year, with an estimated one hour of preparation for each petition, for a total of one burden hour per year. That estimate remains unchanged with this notice.

Estimated Total Annual Burden Cost: $7.95.

NHTSA estimates that the only cost burden to respondents (i.e., petitioners) except for the time invested (opportunity cost) associated with the time to submit the petition will be postage costs. NHTSA estimates that each mailed response is estimated to cost $7.95 (priority flat rate envelope from USPS). Therefore, the total cost for the estimated 1 request per year is $7.95.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29.

Tanya Topka,
Director, Office of Defect Investigations.

[FR Doc. 2025-12386 Filed 7-2-25; 8:45 am]

BILLING CODE 4910-59-P